DEPARTMENT OF JUSTICE

Office of Justice Programs

Agency Information Collection Activities: Proposed Collection; Comments Requested

ACTION: 30-day notice of information collection; under review: extension of a currently approved collection; National Corrections Reporting Program.

The Department of Justice (DOJ), Office of Office of Justice Programs has submitted the following information collection request to the Office of Management and Budget (OMB) for review and approval in accordance with the Paperwork Reduction Act of 1995. The proposed information collection is published to obtain comments from the public and affected agencies. This proposed information collection was previously published in the Federal Register volume 68, number 15, page 3273 on January 23, 2003, allowing for a 60 day comment period.

The purpose of this notice is to allow for an additional 30 days for public comment until May 5, 2003. This process is conducted in accordance with 5 CFR 1320.10.

Written comments and/or suggestions regarding the items contained in this notice, especially the estimated public burden and associated response time, should be directed to The Office of Management and Budget, Office of Information and Regulatory Affairs, Attention Department of Justice Desk Officer, Washington, DC 20503. Additionally, comments may be submitted to OMB via facsimile to (202) 395-7285.

Request written comments and suggestions from the public and affected agencies concerning the proposed collection of information are encouraged. Your comments should address one or more of the following four points:

(1) Type of information collection: Extension of a currently approved collection.

(2) Title of the form/collection: National Corrections Reporting Program. The collection includes the forms: Prisoner Admission Report (all States), Prisoner Release Report (all States), Parole Release Report (all States), and Prisoner in Custody at Year-end Report (only for States submitting data electronically).

(3) Agency form number, if any, and the applicable component of the Department of Justice sponsoring the collection: Form number(s): NCRP-1A, NCRP-1B, NCRP-1C, and NCRP-1D. Corrections Statistics Unit, Bureau of Justice Statistics, Office of Justice Programs, United States Department of Justice.

(4) Affected public who will be asked or required to respond, as well as a brief abstract: The National Corrections Reporting Program (NCRP) is the only national data collection furnishing annual individual-level information for State prisoners admitted or released during the year, those in custody at year-end, and persons discharged from parole supervision. The NCRP collects data on sentencing, time served in prison and on parole, offense, admission/release type, and demographic information. BJS, the Congress, researchers, and criminal justice practitioners use these data to described annual movements of adult offenders through State correctional systems. Providers of the data are personnel in the State Departments of Corrections and Parole.

(5) An estimate of the total number of respondents and the amount of time estimated for an average respondent to respond: BJS anticipates 44 respondents for report year 2003 with a total annual burden of 2.491 hours. Magnetic media or other electronic formats are expected from 41 respondents and 3 respondents are expected to report annually. The respondents who have an automated data system will require an estimated 24 hours of time supply the information for their annual caseload and an additional 2 hours documenting or explaining the data. The estimate of respondent burden for these States includes time required for modifying computer programs, preparing input data, and documenting the tape format and record layout. The estimated average amount of time required to manually complete the NCRP-1A, NCRP-1B, and NCRP-1C questionnaire are 10 minutes, 5 minutes, and 3 minutes per inmate, respectively. The responded burden is directly related to the number of cases reported. For 2000, the three manually reporting States submitted about 3,100 completed questionnaire for the NCRP-1A, about 2,700 for the NCRP-1B, and about 580 for the NCRP-1C. The estimated total burden for these respondents who submitted data manually was 771 hours. We expect no additional manual reporters in the future; and we expect an insignificant amount of increase in the number of prison admissions, prison releases and parole exists in the three States that currently report manually.

(6) An estimate of the total public burden (in hours) associated with the collection: There are an estimated 2,491 burden hours annually associated with this information collection.

If additional information is required contact: Mrs. Brenda E. Dyer, Deputy Clearance Officer, United States Department of Justice, Information Management and Security Staff, Justice Management Division, Suite 1600, Patrick Henry Building, 601 D Street, NW., Washington, DC 20530.

Dated: March 28, 2003.
Brenda E. Dyer,
Department Deputy Clearance Officer, United States Department of Justice.

[FR Doc. 03-8041 Filed 4-2-03; 8:45 am]

BILLING CODE 4410-18-M